DEPARTMENT OF ENERGY

Federal Energy Regulatory Commission

[Docket No. RM98-1-000]

Records Governing Off-the-Record Communications; Public Notice

This constitutes notice, in accordance with 18 CFR 385.2201(b), of the receipt of prohibited and exempt off-the-record communications.

Order No. 607 (64 FR 51222, September 22, 1999) requires Commission decisional employees, who make or receive a prohibited or exempt off-the-record communication relevant to the merits of a contested proceeding, to deliver to the Secretary of the Commission, a copy of the communication, if written, or a summary of the substance of any oral communication.

Prohibited communications are included in a public, non-decisional file associated with, but not a part of, the decisional record of the proceeding. Unless the Commission determines that the prohibited communication and any responses thereto should become a part of the decisional record, the prohibited off-the-record communication will not be considered by the Commission in reaching its decision. Parties to a proceeding may seek the opportunity to respond to any facts or contentions made in a prohibited off-the-record communication and may request that the Commission place the prohibited communication and responses thereto in the decisional record. The Commission will grant such a request only when it determines that fairness so requires. Any person identified below as having made a prohibited off-the-record communication shall serve the document on all parties listed on the official service list for the applicable proceeding in accordance with Rule 2010, 18 CFR 385.2010.

Exempt off-the-record communications are included in the decisional record of the proceeding, unless the communication was with a cooperating agency as described by 40 CFR 1501.6, made under 18 CFR 385.2201(e)(1)(v).

The following is a list of off-the-record communications recently received by the Secretary of the Commission. This filing may be viewed on the Commission's website at http://www.ferc.gov using the eLibrary link. Enter the docket number, excluding the last three digits, in the docket number field to access the document. For assistance, please contact FERC Online Support at FERCOnlineSupport@ferc.gov or toll free at (866) 208-3676, or for TTY, contact (202) 502-8659.

Prohibited
Docket Nos. | File date | Presenter or requester
1. CP22-2-000 | 2-14-2023 | FERC Staff ¹
2. CP22-2-000 | 2-14-2023 | FERC Staff ²
3. CP22-2-000 | 2-14-2023 | FERC Staff ³
4. CP22-2-000 | 2-14-2023 | FERC Staff ⁴
5. CP22-2-000 | 2-14-2023 | FERC Staff ⁵
6. CP22-2-000 | 2-14-2023 | FERC Staff ⁶
7. CP22-2-000 | 2-14-2023 | FERC Staff ⁷
8. CP22-2-000 | 2-14-2023 | FERC Staff ⁸
9. CP22-2-000 | 2-14-2023 | FERC Staff ⁹
10. CP22-2-000 | 2-14-2023 | FERC Staff ¹⁰
11. CP22-2-000 | 2-14-2023 | FERC Staff ¹¹
12. CP22-2-000 | 2-14-2023 | FERC Staff ¹²
13. CP22-2-000 | 2-14-2023 | FERC Staff ¹³
14. CP22-2-000 | 2-14-2023 | FERC Staff ¹⁴
15. CP22-2-000 | 2-14-2023 | FERC Staff ¹⁵
16. CP22-2-000 | 2-14-2023 | FERC Staff ¹⁶
17. CP22-2-000 | 2-14-2023 | FERC Staff ¹⁷
18. CP22-2-000 | 2-14-2023 | FERC Staff ¹⁸
19. CP22-2-000 | 2-14-2023 | FERC Staff ¹⁹
20. CP22-2-000 | 2-14-2023 | FERC Staff ²⁰
21. CP22-2-000 | 2-14-2023 | FERC Staff ²¹
22. CP22-2-000 | 2-14-2023 | FERC Staff ²²
23. CP22-2-000 | 2-14-2023 | FERC Staff ²³
24. CP22-2-000 | 2-14-2023 | FERC Staff ²⁴
25. CP22-2-000 | 2-14-2023 | FERC Staff ²⁵
26. CP22-2-000 | 2-14-2023 | FERC Staff ²⁶
27. CP22-2-000 | 2-14-2023 | FERC Staff ²⁷
28. CP22-2-000 | 2-14-2023 | FERC Staff ²⁸
29. CP22-2-000 | 2-23-2023 | FERC Staff ²⁹
30. CP22-2-000 | 2-23-2023 | FERC Staff ³⁰
31. CP22-2-000 | 2-23-2023 | FERC Staff ³¹
32. CP22-2-000 | 2-23-2023 | FERC Staff ³²
33. CP22-2-000 | 2-23-2023 | FERC Staff ³³
34. CP22-2-000 | 2-23-2023 | FERC Staff ³⁴
35. CP22-2-000 | 2-23-2023 | FERC Staff ³⁵
36. CP22-2-000 | 2-23-2023 | FERC Staff ³⁶
37. CP22-2-000 | 2-23-2023 | FERC Staff ³⁷
38. CP22-2-000 | 2-23-2023 | FERC Staff ³⁸
39. CP22-2-000 | 2-23-2023 | FERC Staff ³⁹
40. CP22-2-000 | 2-23-2023 | FERC Staff ⁴⁰
41. CP22-2-000 | 2-23-2023 | FERC Staff ⁴¹
42. CP22-2-000 | 2-23-2023 | FERC Staff ⁴²
43. CP22-2-000 | 2-23-2023 | FERC Staff ⁴³
44. CP22-2-000 | 2-23-2023 | FERC Staff ⁴⁴
45. CP22-2-000 | 2-23-2023 | FERC Staff ⁴⁵
46. CP22-2-000 | 2-23-2023 | FERC Staff ⁴⁶
47. CP22-2-000 | 2-23-2023 | FERC Staff ⁴⁷
48. CP22-2-000 | 2-23-2023 | FERC Staff ⁴⁸
49. CP22-2-000 | 2-23-2023 | FERC Staff ⁴⁹
50. CP22-2-000 | 2-23-2023 | FERC Staff ⁵⁰
51. CP22-2-000 | 2-23-2023 | FERC Staff ⁵¹
52. CP22-2-000 | 2-23-2023 | FERC Staff ⁵²
53. CP22-2-000 | 2-23-2023 | FERC Staff ⁵³
54. CP22-2-000 | 2-23-2023 | FERC Staff ⁵⁴
55. CP22-2-000 | 2-23-2023 | FERC Staff ⁵⁵
¹ Emailed comments dated 2/14/23 from Robert A. Mertz.
² Emailed comments dated 2/14/23 from Benjamin Christy.
³ Emailed comments dated 2/14/23 from G Weshinskey.
⁴ Emailed comments dated 2/14/23 from Christine Holmes.
⁵ Emailed comments dated 2/14/23 from Robynne Limoges.
⁶ Emailed comments dated 2/14/23 from Karl Steudel.
⁷ Emailed comments dated 2/14/23 from Paul Lufkin.
⁸ Emailed comments dated 2/14/23 from Laurel Facey.
⁹ Emailed comments dated 2/14/23 from Toni Reading.
¹⁰ Emailed comments dated 2/14/23 from Pat Mace.
¹¹ Emailed comments dated 2/14/23 from Eleanor Weisman.
¹² Emailed comments dated 2/14/23 from Richard Stern.
¹³ Emailed comments dated 2/14/23 from Nora Cloud.
¹⁴ Emailed comments dated 2/14/23 from Ken Dolsky.
¹⁵ Emailed comments dated 2/14/23 from Diana Covington.
¹⁶ Emailed comments dated 2/14/23 from Peter Sakura.
¹⁷ Emailed comments dated 2/14/23 from Carlin Black.
¹⁸ Emailed comments dated 2/14/23 from an individual.
¹⁹ Emailed comments dated 2/14/23 from Kathy Spera.
²⁰ Emailed comments dated 2/14/23 from Joe Pfister.
²¹ Emailed comments dated 2/14/23 from Michael Laird.
²² Emailed comments dated 2/14/23 from Jason Miller.
²³ Emailed comments dated 2/14/23 from Linda Hagedorn.
²⁴ Emailed comments dated 2/14/23 from Gail Fleischaker.
²⁵ Emailed comments dated 2/14/23 from Lin Deats.
²⁶ Emailed comments dated 2/14/23 from Cindy Capra.
²⁷ Emailed comments dated 2/14/23 from Toddy Perryman.
²⁸ Emailed comments dated 2/14/23 from Sven Sorge.
²⁹ Emailed comments dated 2/14/23 from Steve Luongo.
³⁰ Emailed comments dated 2/14/23 from Sally Small.
³¹ Emailed comments dated 2/14/23 from Ron Mittan and Terry Garrett.
³² Emailed comments dated 2/14/23 from Roderick F. Gregory.
³³ Emailed comments dated 2/19/23 from Rebecca Canright.
³⁴ Emailed comments dated 2/14/23 from Pat Mace.
³⁵ Emailed comments dated 2/14/23 from Pascal Molineaux.
³⁶ Emailed comments dated 2/14/23 from Nora Cloud.
³⁷ Emailed comments dated 2/15/23 from Nisha Gudal.
³⁸ Emailed comments dated 2/14/23 from Michael Laird.
³⁹ Emailed comments dated 2/14/23 from Liz Campbell.
⁴⁰ Emailed comments dated 2/14/23 from Linda Croxson.
⁴¹ Emailed comments dated 2/14/23 from Lin Deats.
⁴² Emailed comments dated 2/16/23 from Kay Reibold.
⁴³ Emailed comments dated 2/17/23 from John Herbst.
⁴⁴ Emailed comments dated 2/15/23 from John Hagen.
⁴⁵ Emailed comments dated 2/14/23 from Jesse Sawyer.
⁴⁶ Emailed comments dated 2/15/23 from Hazel McCoy.
⁴⁷ Emailed comments dated 2/14/23 from Gregg W. Taylor.
⁴⁸ Emailed comments dated 2/15/23 from Elana Mavros.
⁴⁹ Emailed comments dated 2/14/23 from Eleanor Weisman.
⁵⁰ Emailed comments dated 2/14/23 from Diane DiFante.
⁵¹ Emailed comments dated 2/14/23 from David Rosenstein and 4 other individuals.
⁵² Emailed comments dated 2/14/23 from David F. Gassman.
⁵³ Emailed comments dated 2/14/23 from Christopher Lish.
⁵⁴ Emailed comments dated 2/14/23 from Carlin Black.
⁵⁵ Emailed comments dated 2/14/23 from Benjamin Christy.

Exempt
Docket Nos. | File date | Presenter or requester
NONE |  |

Dated: March 1, 2023.
Debbie-Anne A. Reese,
Deputy Secretary.

[FR Doc. 2023-04637 Filed 3-6-23; 8:45 am]

BILLING CODE 6717-01-P